Proclamation 9928 of September 13, 2019

National Gang Violence Prevention Week, 2019

By the President of the United States of America

A Proclamation

My Administration has successfully indicted, convicted, imprisoned, and removed from our country ruthless members of gangs and cartels who inflict horrendous acts of violence upon Americans. During National Gang Violence Prevention Week, my Administration renews its dedication to identifying and dismantling the criminal networks that seek to wreak havoc on our communities and to bringing the individuals who participate in them to justice. We also reaffirm our support for the heroes of law enforcement who have taken a sacred pledge to defend the Nation and its people.

Our Nation's law enforcement officers are the first line of defense against acts of evil perpetrated by gang members. My Administration has increased efforts and has devoted considerable resources to catching, prosecuting, and removing these criminals from our streets. We have made tremendous strides by partnering with State, local, and tribal law enforcement to implement new initiatives, such as Project Safe Neighborhoods, that have been successful in creating safer communities through targeted and sustained reductions in gang violence. Because of these efforts, the Department of Justice (DOJ) brought more cases against violent criminals in fiscal year 2018 than ever before. The record progress we have achieved is the result of our tough stance against crime as well as the bravery and hard work of law enforcement officials.

My Administration is also aggressively combating transnational criminal organizations that bring mayhem across our borders and into our country. On our southern border especially, gangs are heavily involved in murder, extortion, narcotics, and weapons trafficking, human smuggling and trafficking, and other nefarious activities. In the first few weeks of my Administration, I signed three executive orders to dismantle transnational criminal organizations and subsidiary organizations, to reduce crime and restore public safety, and to enhance the safety of law enforcement officers. The DOJ is also working with law enforcement in El Salvador, Guatemala, and Honduras to help coordinate the fight against MS-13, the 18th Street Gang, and other dangerous criminal organizations that try to enter the United States in an effort to ravage our communities. This partnership, called Operation Regional Shield, targets gangs at the source and works to ensure that these criminals never reach our borders. So far, the program has resulted in the indictment of more than 7,000 criminal gang members. In the first 2 years of my Administration, Immigration and Customs Enforcement officers made 266,000 arrests of aliens with criminal records, including those charged or convicted of 100,000 assaults, nearly 30,000 sex crimes, and 4,000 violent killings. My first duty is to care for our Nation's citizens, and my Administration remains committed to securing the border and stopping criminal gangs, drug smugglers, and human traffickers.

This week, we renew our pledge to defeat criminal gangs and protect our Nation's communities from violent crime so that all Americans have the opportunity to live in safety and peace. We express our deep gratitude to the selfless men and women of our law enforcement agencies who risk their lives protecting our communities. We also pay tribute to the innocent victims of gang violence and pray for their families. Let us honor them by redoubling our efforts to root out and eliminate brutal gangs that threaten our society.

NOW, THEREFORE, I, DONALD J. TRUMP, President of the United States of America, by virtue of the authority vested in me by the Constitution and the laws of the United States, do hereby proclaim the week of September 15 through September 21, 2019, as “National Gang Violence Prevention Week.” I call upon the people of the United States to observe this week with appropriate ceremonies and activities.

IN WITNESS WHEREOF, I have hereunto set my hand this thirteenth day of September, in the year of our Lord two thousand nineteen, and of the Independence of the United States of America the two hundred and forty-fourth.

[FR Doc. 2019-20365

Filed 9-17-19; 11:15 am]

Billing code 3295-F9-P